DEPARTMENT OF LABOR

Employment and Training Administration

[TA-W-60,494]

Walter Mcilvain Co., Acme, PA; Notice of Termination of Investigation

Pursuant to Section 221 of the Trade Act of 1974, as amended, an investigation was initiated on November 28, 2006 in response to a petition filed by a company official on behalf of workers at Walter McIlvain Co., Acme, Pennsylvania.

The petitioner has requested that the petition be withdrawn. Consequently, the investigation has been terminated.

Signed in Washington, DC, this 1st day of December, 2006.
Linda G. Poole,
Certifying Officer, Division of Trade Adjustment Assistance.

[FR Doc. E6-21109 Filed 12-11-06; 8:45 am]

BILLING CODE 4510-30-P